ENVIRONMENTAL PROTECTION AGENCY

[EPA-HQ-RCRA-2002-0033; FRL-9281-1]

Public Comment on the Development of Final Guidance for Evaluating the Vapor Intrusion to Indoor Air Pathway From Contaminated Groundwater and Soils (Subsurface Vapor Intrusion Guidance)

AGENCY: Environmental Protection Agency (EPA).

ACTION: Notice.

SUMMARY: The Environmental Protection Agency (“EPA”) is announcing an opportunity for public comment on the development of a final guidance entitled: Evaluating Vapor Intrusion to Indoor Air Pathway from Contaminated Groundwater and Soil (Subsurface Vapor Intrusion Guidance). A draft of the Subsurface Vapor Intrusion Guidance was released for public comment in November 2002. EPA is planning to issue the final guidance by November 30, 2012 and is seeking public comment for consideration during the development of this document. EPA also intends to make another draft of the guidance available for public comment in the spring of 2012.

DATES: Comments received by May 14, 2011 will be considered in the development of the final Subsurface Vapor Intrusion Guidance.

ADDRESSES: Submit your comments, identified by Docket ID No. EPA-HQ-RCRA-2002-0033, by one of the following methods:

• http://www.regulations.gov: Follow the on-line instructions for submitting comments.

• E-mail: Comments may be sent by electronic mail (e-mail) to: rcra-docket@epa.gov, Attention Docket ID No. EPA-HQ-RCRA-2002-0033.

• Fax: Comments may be faxed to 202-566-9744, Attention Docket ID No. EPA-HQ-RCRA-2002-0033.

• Mail: U.S. Environmental Protection Agency; EPA Docket Center, EPA West, Room 3334, 1301 Constitution Avenue, NW., Washington, DC 20460, Attention Docket ID No. EPA-HQ-RCRA-2002-0033. Please include two copies of your submission.

• Hand Delivery: Deliver two copies of your submission to Docket ID No. EPA-HQ-RCRA-2002-0033, EPA/DC, EPA West, Room 3334, 1301 Constitution Ave., NW., Washington, D.C. 20460. Such deliveries are only accepted during the Docket's normal hours of operation, and special arrangements should be made for deliveries of boxed information.

• Listening Session: Oral and written comments will be accepted at an internet and telephone-accessible public listening session to be held on April 11, 2011 at EPA's First Floor Conference Center in the Potomac Yard South Building located at: 2777 Crystal Drive, Arlington, VA 22202. The listening session will begin at 9:00 a.m. and end at approximately 5 p.m. Advanced registration is requested for those wishing to attend the listening session. Additional details, including instructions for registering and attending via the internet, is under Listening Session and available at: http://www.epa.gov/oswer/vaporintrusion. To participate by telephone only (and not internet) use 1-866-299-3188, access code 7036039924#.

Instructions: Direct your comments to Docket ID No. EPA-HQ-RCRA-2002-0033. EPA's policy is that all submissions received will be included in the public docket without change and may be made available online at http://www.regulations.gov, including any personal information provided, unless the submission includes information claimed to be Confidential Business Information (CBI) or other information whose disclosure is restricted by statute. Do not submit information that you consider to be CBI or otherwise protected through www.regulations.gov or e-mail. The http://www.regulations.gov Web site is an “anonymous access” system, which means EPA will not know your identity or contact information unless you provide it in the body of your comments. If you send an e-mail directly to EPA without going through http://www.regulations.gov, your e-mail address will be automatically captured and included as part of the submission that is placed in the public docket and made available on the Internet. If you submit an electronic document, EPA recommends that you include your name and other contact information in the body of your submission and with any disk or CD-ROM you submit. If EPA cannot read your submission due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the RCRA Docket, EPA/DC, EPA West, Room 3334, 1301 Constitution Ave., NW., Washington, DC, 20460. The Public Reading Room is open from 8:30 a.m. to 4:30 p.m., Monday through Friday, excluding legal holidays. The telephone number for the Public Reading Room is (202) 566-1744, and the telephone number for the RCRA Docket is (202) 566-0270.

FOR FURTHER INFORMATION CONTACT: Stiven Foster, Policy Analysis & Regulatory Management Staff, Office of Program Management, Office of Solid Waste and Emergency Response, U.S. Environmental Protection Agency, 1200 Pennsylvania Ave., NW., Mail Code 5103T, Washington, DC. 20460; telephone: (202) 566-1911; fax number; 202-566-1934; e-mail address: foster.stiven@epa.gov.

SUPPLEMENTARY INFORMATION:

I. General Information

This notice is directed to the public in general, and may be of interest to a wide range of stakeholders, including private citizens, federal, tribal, state and local governments, environmental consulting firms, industry representatives, environmental organizations and other public interest groups. Since others may also be interested, the Agency has not attempted to describe all the specific entities that may have interest in this notice. If you have any questions regarding the applicability of this action to a particular entity, consult the EPA personnel listed under FOR FURTHER INFORMATION CONTACT.

EPA is inviting the public to provide comments on the development of final guidance for Evaluating Vapor Intrusion to Indoor Air Pathway from Contaminated Groundwater and Soil (Subsurface Vapor Intrusion Guidance). A draft version of the Subsurface Vapor Intrusion Guidance was released in November 2002 (67 FR 71169), and a docket was established for public comments: Docket ID No. EPA-HQ-RCRA-2002-0033. The 2002 draft is available from the docket (http://www.regulations.gov) and at: http://www.epa.gov/epawaste/hazard/correctiveaction/eis/vapor.htm.

EPA is planning to issue the final Subsurface Vapor Intrusion Guidance by November 30, 2012 and has re-opened the docket for public comment. Comments previously provided to the docket on the 2002 draft of the Subsurface Vapor Intrusion Guidance, and any comment provided to the docket before May 14, 2011, will be considered in the development of the final document. The public will also be given an opportunity to provide comments on a new draft of the guidance in the spring of 2012. Details on how to provide new comments to the docket are provided under ADDRESSES.

EPA has prepared a document entitled Review of the Draft 2002 Subsurface Vapor Intrusion Guidance, which summarizes EPA's current understanding of the portions of the 2002 Draft Subsurface Vapor Intrusion Guidance that remain valid and those that may need to be updated. In addition to updating portions of the 2002 draft, EPA plans to incorporate the following information at the recommendation of its Inspector General (Report No. 10-P-042):

• Updated toxicity values;

• A recommendation(s) to use multiple lines of evidence in evaluating and making decisions about risk from vapor intrusion;

• How risk from petroleum hydrocarbons should be addressed;

• How the guidance applies to Superfund Five-Year reviews;

• When or whether preemptive mitigation is appropriate;

• Operations and maintenance of mitigation systems, the termination of the systems, and when institutional controls and deed restrictions are appropriate.

The public may want to provide comments on the 2002 draft Subsurface Vapor Intrusion Guidance, the information that the Inspector General has suggested incorporating into the final guidance, or other information that EPA should consider when developing the final version of the guidance.

II. Background

Vapor intrusion can occur when there is migration of volatile chemicals from contaminated groundwater or soil into a building. Volatile chemicals may include volatile organic compounds, select semi-volatile organic compounds, and under certain conditions some inorganic compounds, such as elemental mercury, radon, and hydrogen sulfide. Additional information about vapor intrusion can be found at http://www.epa.gov/oswer/vaporintrusion.

III. Listening Session

In addition to seeking written comments, an internet and telephone-accessible public listening session will be held on April 11, 2011. The listening session will be held at the conference center in EPA's Potomac Yard South Building located at: 2777 Crystal Drive, Arlington, VA 22202. The listening session will begin at 9 a.m. and end at approximately 5 p.m.

The purpose of the listening session will be to allow all interested parties to provide comments on the development on the final Subsurface Vapor Intrusion Guidance. Advanced registration is requested for those wishing to attend the listening session. Registration can be by internet at http://www.epa.gov/oswer/vaporintrusion, by e-mail at foster.stiven@epa.gov, by phone 202-566-1911, or by faxing a registration request to 202-566-1934. In your registration, please reference the “Vapor Intrusion Guidance Listening Session,” your name, title, affiliation, full address and contact information. When you register, please indicate if you would like to make oral comments at the session. In general, each oral comment should be no more than 15 minutes in length. If, however, there are more requests for oral comments than the allotted time allows, the time limit for comments will be adjusted. Written comments will also be accepted at the listening sessions. A copy of the agenda for the listening session will be available at the meeting. If no speakers have registered by five calendar days prior to the listening session, it will be cancelled, and EPA will notify those registered of the cancellation. Additional details about the listening session, including instructions attending via the internet, are available at: http://www.epa.gov/oswer/vaporintrusion. To participate by telephone only (and not internet) use 1-866-299-3188, access code 7036039924#.

Dated: March 11, 2011.
Renee P. Wynn,
Director, Office of Program Management, Office of Solid Waste and Emergency Response.

[FR Doc. 2011-6217 Filed 3-16-11; 8:45 am]

BILLING CODE 6560-50-P